DEPARTMENT OF LABOR

Office of Workers' Compensation Programs

OMB Extension of a Currently Approved Information Collection

AGENCY: Office of Workers' Compensation Programs, Employment Standards Administration, Labor.

ACTION: Notice of OMB extension under the Paperwork Reduction Act of 1995.

SUMMARY: The Office of Workers' Compensation Programs (OWCP) is announcing that the Office of Management and Budget (OMB) has extended, under the Paperwork Reduction Act of 1995, a currently approved collection of information under the Energy Employees Occupational Illness Compensation Program Act of 2000, the Federal Employees' Compensation Act, and the Black Lung Benefits Act. This notice announces both the OMB number and expiration date.

Compliance Date: As of April 9, 2004, affected parties must continue to comply with the information collection requirements described below, which have been extended by OMB under the Paperwork Reduction Act of 1995 (PRA), 44 U.S.C. 3501 et seq.

FOR FURTHER INFORMATION CONTACT: Shelby Hallmark, Director, Office of Workers' Compensation Programs, Employment Standards Administration, U.S. Department of Labor, Room S-3524, 200 Constitution Avenue, NW., Washington, DC 20210. Telephone: 202-693-0036 (this is not a toll-free number).

SUPPLEMENTARY INFORMATION: On November 25, 2003, OWCP requested that OMB extend under the PRA a currently approved information collection for the Energy Employees Occupational Illness Compensation Program Act of 2000, as amended (EEOICPA), 42 U.S.C. 7384 et seq., the Federal Employees' Compensation Act, as amended (FECA), 5 U.S.C. 8101 et seq., and the Black Lung Benefits Act, as amended (BLBA), 30 U.S.C. 901 et seq. The information collection requirements that needed to be extended by OMB are derived from regulations that implement these three statutes at 20 CFR 10.801, 30.701, 725.701 and 725.705, and consist of pharmacy billing data requirements that must be followed so bills that are submitted to OWCP for payment by the responsible program can be processed automatically.

On March 31, 2004, OMB approved this extension of a currently approved collection of information for three years. The OMB control number assigned to this information collection is 1215-0194. The approval for this information collection will expire on March 31, 2007.

Signed at Washington, DC, this 2nd day of April, 2004.
Shelby Hallmark,
Director, Office of Workers' Compensation Programs, Employment Standards Administration.

[FR Doc. 04-8053 Filed 4-8-04; 8:45 am]

BILLING CODE 4510-CR-P